DEPARTMENT OF ENERGY

Federal Energy Regulatory Commission

[Docket Nos. ER02-2001-000 and RM01-8-000]

Revised Public Utility Filing Requirements Electric Quarterly Reports; Notice Providing Further Details on Electric Quarterly Reports Workshop

April 4, 2003.

On March 24, 2003, the Commission issued a “Notice of Electric Quarterly Reports Workshop” to announce, and an Errata Notice to clarify, that a workshop will be held at 9:30 a.m. on Friday, April 11, 2003, at FERC Headquarters, 888 First St., NE., Washington, DC. This notice provides further registration details and the workshop agenda (attachment).

The workshop will consist of EQR software demonstrations as well as discussion with participants. For those unable to attend in person, the workshop will be available at no cost to participants via a combination of telephone conference call and simultaneous online demonstrations accessible from your desktop PC. To register to attend the online version of the workshop, please e-mail eqrworkshop@ferc.gov, and include your name, your company name, and a contact telephone number. A response to your e-mail will be sent with further information and instructions for accessing the workshop from your computer. No registration is required for those parties attending the workshop in person.

The Commission is interested in soliciting questions and or comments regarding the EQR Submission and Dissemination Systems in advance of, as well as during, the workshop. Please e-mail any questions or comments that you would like to have considered and discussed at the workshop to eqrworkshop@ferc.gov.

In addition, interested parties may file comments under the above-captioned Docket Numbers by April 28, 2003. Filings will be available for review at the Commission or may be viewed on the Commission's Web site at http://www.ferc.gov, using the Federal Energy Regulatory Record Information System (FERRIS) data base. To access the filings, enter the docket number, excluding the last three digits, in the docket number field. For assistance, contact FERC Online Support at FERCOnlineSupport@ferc.gov or toll-free at (866) 208-3676, or for TTY, contact (202) 502-8659.

For additional information, please contact Barbara Bourque of FERC's Office of Market Oversight & Investigations at (202) 502-8338 or by e-mail, barbara.bourque@ferc.gov.

Magalie R. Salas,
Secretary.

Electric Quarterly Reports Workshop Agenda

Friday, April 11, 2003

I. Welcome to Participants

A. Live and Web participants (Live sign-in)

B. User's Group formation

II. FERC Issues with Data

A. Revised 4th Quarter 2002 submissions due April 11, 2003

1. Truncated currency totals

2. DUNS numbers

3. Product Name—Bookouts

B. Product Names list expansion?

C. Participant comments and questions

III. Submission System Changes/Updates

A. Demonstration

1. Error detection

2. Reports/printing capabilities

B. Participant comments and questions

IV. Dissemination System Changes/Updates

A. Submission System download

B. Spreadsheet download—demo

C. Database download

D. Queries—demo

E. Participant comments and questions

V. Compliance

A. Review of submissions

B. Letters to companies in non-compliance status with Order 2001

C. Participant comments and questions

[FR Doc. 03-8980 Filed 4-10-03; 8:45 am]

BILLING CODE 6717-01-P